DEPARTMENT OF COMMERCE

National Oceanic and Atmospheric Administration

[RTID 0648-XC541]

Endangered and Threatened Species; Take of Anadromous Fish

AGENCY: National Marine Fisheries Service (NMFS), National Oceanic and Atmospheric Administration (NOAA), Commerce

ACTION: Notice of availability; extension of public comment period.

SUMMARY: The National Marine Fisheries Service (NMFS) is extending the public comment period for the proposed Elliott State Research Forest Habitat Conservation Plan (HCP). NMFS is reviewing the Incidental Take Permit (ITP) application submitted by the Oregon Department of State Lands (ODSL), who is seeking authorization from NMFS and the U.S. Fish and Wildlife Service (FWS) for the incidental take of three species (two under FWS jurisdiction, and one under NMFS jurisdiction). The FWS is the lead federal agency under the National Environmental Policy Act (NEPA), and NMFS is a cooperating agency. FWS is extending the public comment period on the Draft Environmental Impact Statement and proposed HCP until January 10, 2023; therefore, NMFS is also extending its public comment period on the proposed HCP until January 10, 2023.

DATES: The comment period for the proposed HCP, notice of which was published on November 18, 2022 (87 FR 69256), is extended until January 10, 2023. Comments must be received by 11:59 p.m. Eastern Time on January 10, 2023.

ADDRESSES:

Written Comments: Written comments on the proposed HCP will be accepted via the Federal e-Rulemaking Portal. Go to https://www.regulations.gov and enter FWS-R1-ES-2022-0029 in the Search Box. Follow instructions for submitting comments on Docket FWS-R1-ES-2022-0029. When commenting, please refer to the specific section and/or page number and the subject of your comment.

Instructions: Written comments submitted through any other method, or received after the end of the comment period, may not be considered by NMFS. All comments received are part of the public record and will generally be posted for public viewing on www.regulations.gov. All personal identifying information (e.g., name, address), confidential business information, or otherwise sensitive information submitted voluntarily by the sender will be publicly accessible. NMFS will accept anonymous comments (enter “N/A” in the required fields if you wish to remain anonymous).

FOR FURTHER INFORMATION CONTACT: Kathleen Wells, NMFS, 503-230-5437, Kathleen.Wells@noaa.gov. Shauna Everett, FWS, 503-231-6949, Shauna_Everett@fws.gov.

SUPPLEMENTARY INFORMATION: Section 9 of the ESA and Federal regulations prohibit the taking of a species listed as endangered or threatened. The ESA defines “take” to mean harass, harm, pursue, hunt, shoot, wound, kill, trap, capture, or collect, or to attempt to engage in any such conduct. NMFS and FWS may issue permits, under limited circumstances, to take listed species incidental to, and not the purpose of, otherwise lawful activities. Section 10(a)(1)(B) of the ESA and implementing regulations (50 CFR 222.307 for NMFS and 50 CFR 17.22(b) and 17.32(b) for FWS) provide for authorizing incidental take of listed species.

NMFS received an ITP application from ODSL on October 10, 2022, pursuant to the ESA. ODSL prepared the HCP in support of the ITP applications and is seeking authorization from NMFS for incidental take of the Oregon Coast Coho salmon (covered species).

The ITP, if issued, would authorize take of the covered species that may occur incidental to ODSL's research and forest management activities (the covered activities). The plan area includes a total of 93,432 acres, which includes School Lands and Board of Forestry Lands managed by ODSL and ODF. The covered activities include the foundational research design of the Elliott State Research Forest proposal including; forest research treatments; operation standards, by research treatment designation; projected harvest timing, amount, and amount of harvest types, and methods; supporting management activities; supporting infrastructure, including roads and facilities; potential research projects; and implementation of the HCP's conservation strategy.

NMFS is extending its public comment period on the proposed HCP to align with the extended comment period of FWS. NMFS will be taking public comment on the proposed HCP through January 10, 2023.

Authority: Section 10(c) of the ESA and its implementing regulations (50 CFR 222.307, 17.22 and 17.32).

Dated: December 13, 2022.
Angela Somma,
Chief, Endangered Species Division, Office of Protected Resources, National Marine Fisheries Service.

[FR Doc. 2022-27395 Filed 12-16-22; 8:45 am]

BILLING CODE 3510-22-P